DEPARTMENT OF THE INTERIOR

Bureau of Land Management

[LLMTL00000.L10200000.PG0000]

Notice of Public Meeting; Central Montana Resource Advisory Council

AGENCY: Bureau of Land Management, Interior.

ACTION: Notice of public meeting.

SUMMARY: In accordance with the Federal Land Policy and Management Act Land the Federal Advisory Committee Act of 1972, the U.S. Department of the Interior, Bureau of Land Management (BLM) Central Montana Resource Advisory Council (RAC) will meet as indicated below.

DATES: The meeting will be January 9-10, 2013. The January 9 meeting will begin at 10 a.m. with a 30-minute public comment period and will adjourn at 5:30 p.m. The January 10 meeting will begin at 8 a.m. with a 30-minute public comment period beginning at 10 a.m. and will adjourn at 12 p.m.

ADDRESSES: The meetings will be in the Lewistown Field Office Conference Room at 920 NE Main, Lewistown, Montana.

FOR FURTHER INFORMATION CONTACT: Gary L. “Stan” Benes, Central Montana District Manager, Lewistown Field Office, 920 NE Main, Lewistown, MT 59457, (406) 538-1900, gbenes@blm.gov. Persons who use a telecommunications device for the deaf (TDD) may call the Federal Information Relay Service (FIRS) at 1-800-677-8339 to contact the above individual during normal business hours. The FIRS is available 24 hours a day, 7 days a week to leave a message or question with the above individual. You will receive a reply during normal business hours.

SUPPLEMENTARY INFORMATION: This 15-member council advises the Secretary of the Interior on a variety of management issues associated with public land management in Montana. During these meetings the council will participate in/discuss/act upon these topics/activities: a roundtable discussion among council members and the BLM; decisions of the Riparian Assessment Report; drought and the boat ramp at Coal Banks; updates on the Limekiln project and Greater Sage Grouse Plan amendments and process; updates on the Memorandum of Understanding regarding water use in the tributary watersheds to the C.M. Russell National Wildlife Refuge; and election of new officers. All RAC meetings are open to the public. Each formal RAC meeting will also have time allocated for hearing public comments. Depending on the number of persons wishing to comment and time available, the time for individual oral comments may be limited.

Gary L. “Stan” Benes,
Central Montana District Manager.

[FR Doc. 2012-30668 Filed 12-19-12; 8:45 am]

BILLING CODE 4310-DN-P